DEPARTMENT OF COMMERCE

International Trade Administration

[A-533-857]

Oil Country Tubular Goods From India: Preliminary No Shipments Determination of Antidumping Duty Administrative Review; 2017-2018

AGENCY: Enforcement and Compliance, International Trade Administration, Department of Commerce.

SUMMARY: The Department of Commerce (Commerce) is conducting an administrative review of the antidumping duty order on oil country tubular goods (OCTG) from India. The period of review (POR) is September 1, 2017 through August 31, 2018. The review covers one producer/exporter of the subject merchandise, GVN Fuels, Ltd. (GVN). We preliminarily determine that GVN had no shipments of subject merchandise during the POR. Interested parties are invited to comment on these preliminary results.

DATES: August 13, 2019.

FOR FURTHER INFORMATION CONTACT: Charlotte Baskin-Gerwitz and Andrew Huston AD/CVD Operations, Office VII, Enforcement and Compliance, International Trade Administration, U.S. Department of Commerce, 1401 Constitution Avenue NW, Washington, DC 20230; telephone: (202) 482-4880 or (202) 482-4261, respectively.

SUPPLEMENTARY INFORMATION:

Background

In response to Commerce's notice of opportunity to request an administrative review on OCTG from India,¹ United States Steel Corporation, Maverick Tube Corporation, Tenaris Bay City, Inc, TMK IPSCO, Vallourec Star, L.P., and Welded Tube USA (domestic interested parties) timely requested an administrative review with respect to GVN.² Subsequently, on October 15, 2018, Commerce received a letter from GVN commenting that subject merchandise produced and exported by GVN was outside of the scope of antidumping order and should not be subject to administrative review.³ On November 15, 2018, Commerce published in the Federal Register a notice of initiation of an administrative review of the antidumping duty order on OCTG from India covering one company, GVN.⁴ Thereafter, Commerce clarified that the administrative review excludes OCTG from India “both produced and exported” by GVN.⁵ In May and June 2019, Commerce requested clarification from GVN regarding whether it was responsible for the production, sale, or shipment of subject merchandise during the POR.⁶ On July 1, 2019, GVN reported that it did not sell or export the subject merchandise to the United States during the POR that was produced by any other company, nor, to its knowledge, was any subject merchandise it produced shipped or sold to the United States during the POR by any other company.⁷ On July 2, 2019, we transmitted a “No-Shipment Inquiry” to U.S. Customs and Border Protection (CBP) regarding GVN, to which CBP responded that there were no entries of subject merchandise involving GVN as the producer or exporter.⁸

¹ See Antidumping or Countervailing Duty Order, Finding, or Suspended Investigation; Opportunity To Request Administrative Review, 83 FR 45888, 45889 (September 11, 2018).

² See Domestic Interested Parties' Letter, “Oil Country Tubular Goods from India: Request for Administrative Review,” dated September 28, 2018.

³ See GVN's Letter, “Oil Country Tubular Goods from India: Comment on petitioner's review request,” dated October 15, 2018.

⁴ See Initiation of Antidumping and Countervailing Duty Administrative Reviews, 83 FR 57411 (November 15, 2018).

⁵ See Initiation Notice of Antidumping and Countervailing Duty Administrative Reviews, 84 FR 9297, 9307 n.5 (March 14, 2019) (emphasis added).

⁶ See Commerce's Letter, “Certain Oil Country Tubular Goods (OCTG) from India: Administrative Review Request,” dated May 20, 2019; see also Commerce's Letter, “Certain Oil Country Tubular Goods from India: Administrative Review,” dated June 26, 2019.

⁷ See GVN's Letter, “Oil Country Tubular Goods from India: Reply to Department's letter of June 26, 2019 on Antidumping administrative review of Oil Country Tubular Goods (OCTG) from India,” dated July 1, 2019.

⁸ See CBP's Letter, “Certain oil country tubular goods from India (A-533-857),” dated July 8, 2019 (CBP Letter).

On July 2, 2019, Commerce exercised its discretion to extend the deadline for these preliminary results until August 23, 2019.⁹

⁹ See Memorandum, “Oil Country Tubular Goods from India: Extension of Deadline for Preliminary Results of Antidumping Duty Administrative Review,” dated July 2, 2019.

Scope of the Order

The merchandise covered by the order is certain oil country tubular goods (OCTG), which are hollow steel products of circular cross-section, including oil well casing and tubing, of iron (other than cast iron) or steel (both carbon and alloy), whether seamless or welded, regardless of end finish (e.g., whether or not plain end, threaded, or threaded and coupled) whether or not conforming to American Petroleum Institute (API) or non-API specifications, whether finished (including limited service OCTG products) or unfinished (including green tubes and limited service OCTG products), whether or not thread protectors are attached. The scope of the order also covers OCTG coupling stock.

Excluded from the scope of the order are: casing or tubing containing 10.5 percent or more by weight of chromium; drill pipe; unattached couplings; and unattached thread protectors.

The merchandise subject to the order is currently classified in the Harmonized Tariff Schedule of the United States (HTSUS) under item numbers: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.31.10, 7304.29.31.20, 7304.29.31.30, 7304.29.31.40, 7304.29.31.50, 7304.29.31.60, 7304.29.31.80, 7304.29.41.10, 7304.29.41.20, 7304.29.41.30, 7304.29.41.40, 7304.29.41.50, 7304.29.41.60, 7304.29.41.80, 7304.29.50.15, 7304.29.50.30, 7304.29.50.45, 7304.29.50.60, 7304.29.50.75, 7304.29.61.15, 7304.29.61.30, 7304.29.61.45, 7304.29.61.60, 7304.29.61.75, 7305.20.20.00, 7305.20.40.00, 7305.20.60.00, 7305.20.80.00, 7306.29.10.30, 7306.29.10.90, 7306.29.20.00, 7306.29.31.00, 7306.29.41.00, 7306.29.60.10, 7306.29.60.50, 7306.29.81.10, and 7306.29.81.50.

The merchandise subject to the order may also enter under the following HTSUS item numbers: 7304.39.00.24, 7304.39.00.28, 7304.39.00.32, 7304.39.00.36, 7304.39.00.40, 7304.39.00.44, 7304.39.00.48, 7304.39.00.52, 7304.39.00.56, 7304.39.00.62, 7304.39.00.68, 7304.39.00.72, 7304.39.00.76, 7304.39.00.80, 7304.59.60.00, 7304.59.80.15, 7304.59.80.20, 7304.59.80.25, 7304.59.80.30, 7304.59.80.35, 7304.59.80.40, 7304.59.80.45, 7304.59.80.50, 7304.59.80.55, 7304.59.80.60, 7304.59.80.65, 7304.59.80.70, 7304.59.80.80, 7305.31.40.00, 7305.31.60.90, 7306.30.50.55, 7306.30.50.90, 7306.50.50.50, and 7306.50.50.70.

The HTSUS subheadings above are provided for convenience and customs purposes only. The written description of the scope of the order is dispositive.

Preliminary Determination of No Shipments

Based on record evidence, we preliminarily determine that GVN had no shipments of subject merchandise during the POR. Specifically, CBP indicated that it found no shipments by GVN during the POR.¹⁰ Consistent with Commerce's practice, we find that it is not appropriate to rescind the review with respect to GVN but, rather, to complete the review and issue appropriate instructions to CBP based on the final results of this review.¹¹

¹⁰ See CBP Letter.

¹¹ See, e.g., Magnesium Metal From the Russian Federation: Preliminary Results of Antidumping Duty Administrative Review, 75 FR 26922, 26923 (May 13, 2010), unchanged in Magnesium Metal From the Russian Federation: Final Results of Antidumping Duty Administrative Review, 75 FR 56989 (September 17, 2010).

Public Comment

Interested parties may submit case briefs no later than 30 days after the date of publication of this notice.¹² Rebuttal briefs, limited to issues raised in the case briefs, may be filed not later than five days after the date for filing case briefs.¹³ Parties who submit case or rebuttal briefs in this proceeding are encouraged to submit with each argument: (1) A statement of the issue; (2) a brief summary of the argument; and (3) a table of authorities.¹⁴

¹² See 19 CFR 351.309(c)(1)(ii).

¹³ See 19 CFR 351.309(d).

¹⁴ See 19 CFR 351.309(c)(2) and (d)(2).

Pursuant to 19 CFR 351.310(c), interested parties who wish to request a hearing, or to participate if one is requested, must submit a written request to the Assistant Secretary for Enforcement and Compliance, U.S. Department of Commerce using Enforcement and Compliance's ACCESS system within 30 days after the date of publication of this notice.¹⁵ Requests should contain: (1) The party's name, address, and telephone number; (2) the number of participants; and (3) a list of issues to be discussed. Issues raised in the hearing will be limited to those raised in the respective case and rebuttal briefs. If a request for a hearing is made, Commerce intends to hold the hearing at the U.S. Department of Commerce, 1401 Constitution Avenue NW, Washington, DC 20230, at a time and date to be determined. Parties should confirm by telephone the date, time, and location of the hearing two days before the scheduled date.

¹⁵ See 19 CFR 351.310(c).

All submissions must be filed electronically using ACCESS and served on interested parties.¹⁶ An electronically-filed document must be received successfully in its entirety by ACCESS by 5:00 p.m. Eastern Standard Time on the date that the document is due.

¹⁶ See 19 CFR 351.303(f).

Unless the deadline is extended, Commerce intends to issue the final results of this administrative review, including the results of its analysis of the issues raised in any written briefs, not later than 120 days after the date of publication of this notice, pursuant to section 751(a)(3)(A) of the Tariff Act of 1930, as amended (the Act).

Assessment Rates

Commerce clarified its “automatic assessment” regulation on May 6, 2003.¹⁷ This clarification will apply to entries of subject merchandise during the POR produced by GVN for which this company did not know that the merchandise was destined for the United States. In such instances, we will instruct CBP to liquidate unreviewed entries at the all-others rate if there is no rate for the intermediate company(ies) involved in the transaction. Further, instead of rescinding the review with respect to GVN, we find it appropriate to complete the review and issue liquidation instruction to CBP concerning entries for GVN following issuance of the final results of review. If we continue to find that GVN had no shipments of subject merchandise in the final results, we will instruct CBP to liquidate any existing entries of merchandise produced by GVN, but exported by other parties, at the rate for the intermediate reseller, if available, or at the all-others rate.¹⁸

¹⁷ For a full discussion of this clarification, see Antidumping and Countervailing Duty Proceedings: Assessment of Antidumping Duties, 68 FR 23954 (May 6, 2003).

¹⁸ Id.

We intend to issue instructions to CBP 15 days after the publication date of the final results of this review.

Cash Deposit Requirements

If the final results of review continue to find that GVN had no shipments during the POR, there will be no change to the existing cash deposit requirements.

Notification to Importers

This notice also serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these results in accordance with sections 751(a)(1) and 777(i) of the Act.

Dated: August 7, 2019.
Jeffrey I. Kessler,
Assistant Secretary for Enforcement and Compliance.

[FR Doc. 2019-17310 Filed 8-12-19; 8:45 am]

BILLING CODE 3510-DS-P